NATIONAL AERONAUTICS AND SPACE ADMINISTRATION

[Notice 00-102]

Notice of Prospective Patent License

AGENCY: National Aeronautics and Space Administration.

ACTION: Notice of prospective patent license.

SUMMARY: NASA hereby gives notice that Phoenix Systems International, Inc. of McDonald, OH, has applied for an exclusive license to practice the invention described and claimed in a U.S. Provisional Patent Application 60/163,045 entitled “System for Reducing Nitrogen Oxide Emissions from Stationary Combustion Sources,” which is assigned to the United States of America as represented by the Administrator of the National Aeronautics and Space Administration. Written objections to the prospective grant of a license should be sent to Patent Counsel, Assistant Chief Counsel, NASA, Mail Code: CC-A, Office of the Chief Counsel, John F. Kennedy Space Center, Kennedy Space Center, FL 32899.

DATES: Responses to this Notice must be received on or before October 23, 2000.

FOR FURTHER INFORMATION CONTACT: Diana M. Cox, Patent Counsel/Assistant Chief Counsel, NASA, Office of the Chief Counsel, John F. Kennedy Space Center, Mail Code: CC-A, Kennedy Space Center, FL 32899, telephone (321) 867-7214.

Dated: August 16, 2000.
Edward A. Frankle,
General Counsel.

[FR Doc. 00-21586 Filed 8-23-00; 8:45 am]

BILLING CODE 7510-01-P